ENVIRONMENTAL PROTECTION AGENCY

[FRL-6586-4]

Agency Information Collection Activities: Proposed Collection; Comment Request; Part 71 Federal Operating Permit Rules

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Part 71 Federal Operating Permit Rules, EPA ICR Number 1713.04, OMB Control Number 2060-0336, expiration date May 31, 2000. Before submitting the ICR to OMB for review and approval, EPA is soliciting comments on specific aspects of the proposed information collection as described below.

DATES: Comments must be submitted on or before June 30, 2000.

ADDRESSES: For a copy of the draft ICR estimates, contact Scott Voorhees at (919) 541-5348 or “voorhees.scott@epa.gov” and refer to EPA ICR Number 1713.04.

FOR FURTHER INFORMATION CONTACT: Scott Voorhees at (919) 541-5348 and e-mail address listed above.

SUPPLEMENTARY INFORMATION: Affected entities: Entities potentially affected by this action are those which must apply for and obtain a federally issued operating permit under title V of the Clean Air Act (Act). These, in general, include sources which are defined as “major” under any title of the Act.

Title: Part 71 Federal Operating Permit Rules (OMB Control No.2060-0336; EPA ICR No. 1713.04.) expiring May 31, 2000.

Abstract: The part 71 program is a Federal operating permits program that will be implemented for sources located in Indian Country, Outer Continental Shelf sources, and also in those areas without acceptable part 70 programs. Title V of the Clean Air Act imposes on States the duty to develop, administer and enforce operating permit programs which comply with title V and requires EPA to stand ready to issue Federal operating permits when States fail to perform this duty. Section 502(b) of the Act requires EPA to promulgate regulations setting forth provisions under which States will develop operating permit programs and submit them to EPA for approval. Pursuant to this section, EPA promulgated 40 CFR part 70 on July 21, 1992 (57 FR 32250) which specifies the minimum elements of State operating permit programs.

Pursuant to regulations promulgated by EPA on February 19, 1999 (64 FR 8247) EPA has authority to establish part 71 programs within Indian Country and EPA began administering the program in Indian country on March 22, 1999. Since many Indian tribes lack the resources and capacity to develop operating permit programs, EPA will administer and enforce part 71 programs in the areas that comprise Indian Country in order to protect the air quality of areas under tribal jurisdiction.

The EPA intends to protect tribal air quality through the development of implementation plans, permits programs and other means, including direct assistance to tribes in developing comprehensive and effective air quality management programs. The EPA will consult with tribes to identify their particular needs for air program development assistance and will provide ongoing assistance as necessary.

The EPA will also issue permits to “outer continental shelf” (OCS) sources (sources located in offshore waters of the United States) pursuant to the requirements of section 328(a) of the Act. For sources beyond 25 miles (40 km) of the States' seaward boundaries, EPA is the permitting authority, and the provisions of part 71 will apply to the permitting of those OCS sources. Permits for sources located within 25 miles of a State's seaward boundaries are issued by the Administrator (or a State or local agency which has been delegated the OCS program in accordance with 40 CFR part 55 of this chapter) pursuant to the part 70 or part 71 program which is effective in the corresponding onshore area.

Investigation of the OCS ICR indicates currently there are only two OCS sources which fall under the jurisdiction of the Federal program. There are approximately 95 sources in Indian Country that require part 71 permits.

The EPA will also establish a part 71 program for a State when interim approval of a State program expires, if corrective program provisions have not been adopted and submitted to EPA in time for full approval. Since the suspension of the Federal program requirement runs out with the expiration of interim approval, the requirement that EPA promulgate a Federal program is effective immediately upon that expiration.

The EPA has the authority to establish a partial part 71 program in limited geographical areas of a state if EPA has approved a part 70 program (or combination of part 70 programs) for the remaining areas of the State. The EPA will promulgate a part 71 program for a permitting authority if EPA finds that a permitting authority is not adequately administering or enforcing its approved program and it fails to correct the deficiencies that precipitated EPA's finding.

The EPA may use part 71 in its entirety or any portion of the regulations, as needed. Similarly, EPA may use only portions of the regulations to correct and issue a State permit without, for example, requiring an entirely new application. Section 71.4(f) also authorizes EPA to exercise its discretion in designing a part 71 program. The EPA may promulgate a part 71 program based on the national template described in part 71 or may modify the national template by adopting appropriate portions of a State's program as part of the Federal program for that State, provided the resulting program is consistent with the requirements of title V.

An agency may not conduct or sponsor, and a person is not required to respond to, a collection of information unless it displays a currently valid OMB control number. The OMB control numbers for EPA's regulations are listed in 40 CFR part 9 and 48 CFR Chapter 15. The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The projected cost for implementing the part 71 program for the 3 years from June 1, 2000 until May 31, 2003 is approximately $18 million in annualized direct costs to sources. These costs represent the direct administrative costs for 2,059 major sources, for a cost of $8,803 per source. The Agency expects Federal costs will be $19.8 million ($9,622 per source). The Agency anticipates administering a part 71 program for approximately 95 sources in Indian Country and the Outer Continental Shelf. The expected scope of the part 71 program will result in an anticipated average per ton of emissions cost of $26.85 in 1994 dollars. For a permit program which is fully contracted by the Agency, the expected Federal cost would be $47.1 million ($22,901 per source), or $63.89 per ton in 1994 dollars. These costs provide an upper and lower bound to the expected cost of the part 71 regulation. The Agency anticipates that these burden estimates will change as the number of State and Local operating permitting programs to be administered by the Agency as Federal programs changes over time. These changes to the burden estimate will be reflected in the ICR document. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

During the period of this ICR, EPA (in addition to general administration of the program) primarily will be issuing permits required by the program, revising permits that have already been issued, and reviewing semi-annual compliance monitoring reports for issued permits. Sources in the part 71 program primarily will be interacting with EPA on permit issuance (for those that have not been issued), preparing semi-annual compliance monitoring reports, revising their permits as needed, carrying out periodic monitoring that was created as a result of the program, and preparing applications for permit renewal as necessary.

Dated: April 20, 2000.
Robert G. Kellam,
Acting Director, Information Transfer and Program Integration Division.

[FR Doc. 00-10767 Filed 4-28-00; 8:45 am]

BILLING CODE 6560-50-P